DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Evaluation of Interpretative Signs Located Along the California Coastline Part of the California Signage Plan Initiative.

OMB Control Number: None.

Form Number(s): NA.

Type of Request: Regular submission (request for a new information collection).

Number of Respondents: 400.

Average Hours per Response: 7 to 8 minutes.

Burden Hours: 50.

Needs and Uses: This request is for a new information collection.

The California Signage Plan is an organized and systematic way to develop and install graphic signs along the California coastline and inland that interpret the natural and cultural resources of a particular location and its connection to the sanctuaries located within California. To date, a strategic approach to evaluating interpretive signs produced by the Office of National Marine Sanctuaries has not been developed; therefore, we do not know if the messages we are trying to convey to our audiences are effective. We are proposing to conduct an online and onsite survey of approximately 400 visitors to the locations where signs are currently installed. The questions outlined in the survey examine the public's use of the signs, understanding of the signs' content, understanding and awareness of protected areas/zones and how those messages are portrayed in regulatory signs, demographics of the target audience, interest in alternate sources of interpretive content, perception of the National Marine Sanctuaries identity, and awareness of the national marine sanctuary system.

Affected Public: Individuals or households.

Frequency: One-time only.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: August 9, 2012.
Gwellnar Banks,
Management Analyst, Office of the Chief Information Officer.

[FR Doc. 2012-19967 Filed 8-14-12; 8:45 am]

BILLING CODE 3510-22-P